DEPARTMENT OF TRANSPORTATION

Federal Aviation Administration

14 CFR Part 39

[Docket No. 2001-CE-41-AD]

RIN 2120-AA64

Airworthiness Directives; SOCATA—Groupe Aerospatiale Models MS 892A-150, MS 892E-150, MS 893A, MS 893E, MS 894A, MS 894E, Rallye 150T, and Rallye 150ST Airplanes

AGENCY: Federal Aviation Administration, DOT.

ACTION: Notice of proposed rulemaking (NPRM).

SUMMARY: This document proposes to supersede Airworthiness Directive (AD) 77-15-06, which applies to all SOCATA—Groupe Aerospatiale (Socata) Models MS 892A-150, MS 892E-150, MS 893A, MS 893E, Rallye 150T, and Rallye 150ST airplanes. AD 77-15-06 currently requires you to repetitively inspect the engine mount assembly for cracks, repair any cracks found, and modify the brackets on airplanes with right angle engine mounts. This proposed AD is the result of the French airworthiness authority's determination that updated service information and additional aircraft should be added to the applicability of AD 77-15-06. This proposed AD would retain the inspection and repair requirements of the current AD and would add the information communicated by the French airworthiness authority. The actions specified by this proposed AD are intended to detect and correct cracks in the engine mount assembly. Such a condition could cause the engine mount assembly to fail, which could result in loss of control of the airplane.

DATES: The Federal Aviation Administration (FAA) must receive any comments on this rule on or before January 11, 2002.

ADDRESSES: Submit comments to FAA, Central Region, Office of the Regional Counsel, Attention: Rules Docket No. 2001-CE-41-AD, 901 Locust, Room 506, Kansas City, Missouri 64106. You may view any comments at this location between 8 a.m. and 4 p.m., Monday through Friday, except Federal holidays.

You may get service information that applies to this proposed AD from SOCATA Groupe Aerospatiale, Customer Support, Aerodrome Tarbes-Ossun-Lourdes, BP 930—F65009 Tarbes Cedex, France; telephone: 011 33 5 62 41 73 00; facsimile: 011 33 5 62 41 76 54; or the Product Support Manager, SOCATA—Groupe Aerospatiale, North Perry Airport, 7501 Pembroke Road, Pembroke Pines, Florida 33023; telephone: (954) 894-1160; facsimile: (954) 964-4191. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I comment on this proposed AD? The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your comments, you must include a self-addressed, stamped postcard. On the postcard, write “Comments to Docket No. 2001-CE-41-AD.” We will date stamp and mail the postcard back to you.

Discussion

Has FAA taken any action to this point? Fatigue cracks found on the engine mount assemblies of Socata Models MS 892A-150, MS 892E-150, MS 893A, MS 893E, Rallye 150T, and Rallye 150ST airplanes caused us to issue AD 77-15-06, Amendment 39-2975. This AD currently requires the following:

—Inspecting the engine mount assembly for cracks at repetitive intervals;

—Repairing any cracks found; and

—Modifying the brackets on airplanes with right angle engine mounts.

What has happened since AD 77-15-06 to initiate this action? The Direction Générale de l'Aviation Civile (DGAC), which is the airworthiness authority for France, recently notified FAA of the need to change AD 77-15-06. The DGAC reports that:

—The manufacturer has issued new service information to address the unsafe condition;

—Additional airplane models should be added to the applicability; and

—The initial compliance time should be changed from 100 hours time-in-service (TIS) to 50 hours TIS.

Is there service information that applies to this subject? Socata has issued Service Bulletin SB 156-17, dated May 2001.

What are the provisions of this service bulletin? The service bulletin includes procedures for:

—Repetitively inspecting certain engine mount assemblies for cracks; and

—Repairing cracks that are a certain length.

What action did the DGAC take? The DGAC classified this service bulletin as mandatory and issued French AD 2001-400(A), dated September 19, 2001, in order to ensure the continued airworthiness of these airplanes in France.

Was this in accordance with the bilateral airworthiness agreement? These airplane models are manufactured in France and are type certificated for operation in the United States under the provisions of section 21.29 of the Federal Aviation Regulations (14 CFR 21.29) and the applicable bilateral airworthiness agreement.

Pursuant to this bilateral airworthiness agreement, DGAC has kept FAA informed of the situation described above.

The FAA's Determination and an Explanation of the Provisions of the Proposed AD

What has FAA decided? The FAA has examined the findings of the DGAC; reviewed all available information, including the service information referenced above; and determined that:

—The unsafe condition referenced in this document exists or could develop on certain Socata Models MS 892A-150, MS 892E-150, MS 893A, MS 893E, MS 894A, MS 894E, Rallye 150T, and Rallye 150ST airplanes of the same type design that are on the U.S. registry;

—The actions specified in the previously-referenced service information should be accomplished on the affected airplanes; and

—AD action should be taken in order to correct this unsafe condition.

What would the proposed AD require? This proposed AD would supersede AD 77-15-06 with a new AD that would require you to:

—Repetitively inspect any engine mount assembly that is not part number 892-51-0-035-0 (or FAA-approved equivalent part number) for cracks;

—Repair cracks that do not exceed a certain length; and

—Replace the engine mount when the cracks exceed a certain length and cracks are found on an engine mount that already has two repairs.

Cost Impact

How many airplanes would the proposed AD impact? We estimate that the proposed AD affects 81 airplanes in the U.S. registry.

What would be the cost impact of this proposed AD on owners/operators of the affected airplanes? We estimate the following costs to accomplish each proposed inspection(s):

Labor cost | Parts cost | Total cost per airplane | Total cost on U.S. operators
1 workhour × $60=$60 | No parts required | $60 | $60 × 81=$4,860

We estimate the following costs to accomplish any necessary repairs that would be required based on the results of the proposed inspection(s). We have no way of determining the number of airplanes that may need such repair:

Labor cost | Parts cost | Total cost per airplane
3 workhours × $60=$180 | No parts required | $180

We estimate the following costs to accomplish any necessary replacements that would be required based on the results of the proposed inspection(s). We have no way of determining the number of airplanes that may need such replacement:

Labor cost | Parts cost | Total cost per airplane
9 workhours × $60=$540 | $3,500 | $540 + $3,500=$4,040

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends Section 39.13 by removing Airworthiness Directive (AD) 77-15-06, Amendment 39-2975, and by adding a new AD to read as follows:

SOCATA—Groupe Aerospatiale: Docket No. 2001-CE-41-AD; Supersedes AD 77-15-06, Amendment 39-2975.

(a) What airplanes are affected by this AD? This AD affects the following airplane models and serial numbers that are certificated in any category and do not have a part number 892-51-0-035-0 engine mount assembly (or FAA-approved equivalent part number) installed:

Model | Serial Nos.
MS 892A-150 | All serial numbers.
MS 892E-150 | All serial numbers.
MS 893A | All serial numbers.
MS 893E | All serial numbers.
MS 894A | 1005 through 2204 equipped with kit OPT8098 9037.
MS 894E | 1005 through 2204 equipped with kit OPT8098 9037.
Rallye 150T | All serial numbers.
Rallye 150ST | All serial numbers.

(b) Who must comply with this AD? Anyone who wishes to operate any of the above airplanes must comply with this AD.

(c) What problem does this AD address? The actions specified by this AD are intended to detect and correct cracks in the engine mount assembly. Such a condition could cause the engine mount assembly to fail, which could result in loss of control of the airplane.

(d) What actions must I accomplish to address this problem? To address this problem, you must accomplish the following:

Actions | Compliance | Procedures
(1) Inspect the engine mount assembly for cracks | For airplanes previously affected by AD 77-15-06: inspect or within the next 50 hours time-in-service (TIS) after the last inspection required by AD 77-15-06 or within the next 50 hours TIS after the effective date of this AD, whichever occurs first, and thereafter at intervals not to exceed 50 hours TIS. For all other airplanes: inspect within the next 50 hours TIS after the effective date of this AD and thereafter at intervals not to exceed 50 hours TIS | In accordance with the Accomplishment Instructions section of Socata Service Bulletin SB 156-71, dated May 2001.
(2) If any crack is found during any inspection required by this AD that is less than 0.24 inches (6 mm) in length, repair the engine mount assembly. If two repairs on the engine mount have already been performed, replace in accordance with paragraph (d)(3) of this AD | Prior to further flight after the inspection in which the crack is found | In accordance with the Accomplishment Instructions section of Socata Service Bulletin SB 156-71, dated May 2001.
(3) If any crack is found during any inspection required by this AD that is 0.24 inches (6 mm) or longer in length or if any crack is found and two repairs on the engine mount have already been performed, replace the engine mount assembly with part number 892-51-0-035-0 (or FAA-approved equivalent part number) | Prior to further flight after the inspection in which the crack is found. Repetitive inspections are no longer required after this replacement | In accordance with the applicable maintenance manual.
(4) You may terminate the repetitive inspections of this AD after installing engine mount assembly, part number 892-51-0-035-0 (or FAA-approved equivalent part number) | At any time but it must be done prior to further flight if any of the criteria of paragraph (d)(3) are met | In accordance with the applicable maintenance manual.

(e) Can I comply with this AD in any other way?

(1) You may use an alternative method of compliance or adjust the compliance time if:

(i) Your alternative method of compliance provides an equivalent level of safety; and

(ii) The Manager, Small Airplane Directorate, approves your alternative. Submit your request through an FAA Principal Maintenance Inspector, who may add comments and then send it to the Manager, Small Airplane Directorate.

(2) Alternative methods of compliance approved in accordance with AD 77-15-06, which is superseded by this AD, are not approved as alternative methods of compliance with this AD.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from SOCATA Groupe AEROSPATIALE, Customer Support, Aerodrome Tarbes-Ossun-Lourdes, BP 930—F65009 Tarbes Cedex, France; telephone: 011 33 5 62 41 73 00; facsimile: 011 33 5 62 41 76 54; or the Product Support Manager, SOCATA Groupe AEROSPATIALE, North Perry Airport, 7501 Pembroke Road, Pembroke Pines, Florida 33023; telephone: (954) 894-1160; facsimile: (954) 964-4191. You may examine these documents at FAA, Central Region, Office of the Regional Counsel, 901 Locust, Room 506, Kansas City, Missouri 64106.

(i) Does this AD action affect any existing AD actions? This amendment supersedes AD 77-15-06, Amendment 39-2975.

Note 2: The subject of this AD is addressed in French AD 2001-400(A), dated September 19, 2001.

Issued in Kansas City, Missouri, on December 6, 2001.
Michael Gallagher,
Manager, Small Airplane Directorate, Aircraft Certification Service.

[FR Doc. 01-30953 Filed 12-14-01; 8:45 am]

BILLING CODE 4910-13-P